DEPARTMENT OF COMMERCE

National Oceanic and Atmospheric Administration

[I.D. 061900D]

Notice of Decision and Availability of Decision Documents on the Issuance of a Permit for Incidental Takes of Threatened and Endangered Species (1233); Issuance of Modifications to Existing Permits (988, 1030); and Receipt of Application for Scientific Research (1254)

AGENCY: National Marine Fisheries Service (NMFS), National Oceanic and Atmospheric Administration, Commerce.

ACTION: Notice of decision and availability of decision documents on the issuance of a permit (1233) for incidental takes of endangered and threatened species; issuance of modification number 3 to permit 1030; issuance of modification number 1 to permit 988; receipt of an application for a scientific research permit (1254).

SUMMARY: This notice advises the public that a decision on the application for an incidental take permit by the State of Idaho Department of Fish and Game (IDFG), pursuant to section 10(a)(1)(B) of the Endangered Species Act of 1973 (ESA), has been made and that the decision documents are available upon request. Notice is also given of the following actions regarding permits for takes of endangered and threatened species for the purposes of scientific research and/or enhancement: NMFS has issued modification number 1 to permit 988 to Dr. Peter Dutton of NMFS—Southwest Fisheries Science Center (SWFSC) (988) and NMFS has issued modification number 3 to permit 1030 to Mr. Reed Bohne, of NOAA—Gray's Reef NMS (GRNMS) (1030); and NMFS has received an application for a scientific research permit from Mr. Martin Daley, of Central Hudson Gas & Electric Corporation (CHPG) (1254).

ADDRESSES: Written comments on any of the new applications or modification requests should be sent to the appropriate office as indicated here. Comments may also be sent via fax to the number indicated for the application or modification request. Comments will not be accepted if submitted via e-mail or the internet. The applications and related documents are available for review in the indicated office, by appointment:

For permits 1030, 988 and 1254, Endangered Species Division, Office of Protected Resources, NMFS, 1315 East-West Highway, Silver Spring, MD, 20910 (Ph.: 301-713-1401).

For permit 1233, Hatcheries and Inland Fisheries Branch, Sustainable Fisheries Division, F/NWO3, NMFS, 525 NE Oregon Street, Suite 510, Portland, OR 97232-2737 (503-230-5407).

Documents may also be reviewed by appointment in the Office of Protected Resources, F/PR3, NMFS, 1315 East-West Highway, Silver Spring, MD 20910-3226 (301-713-1401).

FOR FURTHER INFORMATION CONTACT: For permit 1233: Herbert Pollard, Portland, OR (208) 378-5614, fax: (208) 378-5699, or e-mail: Herbert.Pollard@noaa.gov

For permits 988, 1030, and 1254: Terri Jordan, Silver Spring, MD, (301-713-1401 x148).

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species and evolutionary significant units (ESU's) are covered in the permit:

Fish

Chinook salmon (Oncorhynchus tshawytscha): threatened Snake River (SnR) spring/summer, threatened SnR fall.

Sockeye salmon (O. nerka): endangered SnR.

Steelhead (O. mykiss): threatened SnR.

Shortnose sturgeon (Acipenser brevirostrum).

Turtles

Threatened Loggerhead turtle (Caretta caretta).

Endangered Green turtle (Chelonia mydas).

Endangered Olive ridley turle (Lepidochelys olivacea).

Permits and Modifications Issued

Permit Issued

Notice was published on April 19, 2000 (65 FR 20951) that IDFG applied for a section 10(a)(1)(B) permit for annual incidental takes of ESA-listed anadromous fish associated with otherwise lawful recreational fisheries on non-listed species in the Snake, Salmon, and Clearwater River Basins and the Stanley Basin lakes in the State of Idaho in the Pacific Northwest. IDFG submitted a Conservation Plan with its permit application that describes measures designed to monitor, minimize, and mitigate the incidental taking of ESA-listed anadromous salmonids associated with the sport-fisheries, some or all of which are expected to occur annually for the duration of the permit.

NMFS' decision is to adopt the preferred alternative in the Conservation Plan together with the preferred alternative in the Environmental Assessment that was completed for this permit action and issue a permit with conditions authorizing incidental takes of the ESA-listed anadromous fish species. This decision is based on a thorough review of the alternatives and their environmental consequences. NMFS' conditions will ensure that the incidental takes of ESA-listed anadromous fish will not appreciably reduce the likelihood of the survival and recovery of the species in the wild. By adopting the preferred alternative in the Conservation Plan, with the Conservation Plan's stated assurances that IDFG's mitigation program will be implemented, all practicable means to avoid or minimize harm have been adopted.

IDFG requested an annual incidental take of threatened SnR steelhead. Protective regulations are currently proposed for SnR steelhead (64 FR 73479, December 30, 1999). NMFS did not act on that part of IDFG's permit application. In the future, when NMFS promulgates final rules under section 4(d) of the ESA that will provide take prohibitions for threatened SnR steelhead, NMFS may amend the permit to include the authorization for an incidental take of this species as IDFG requested in its application. Issuance of the permit does not presuppose the contents of the eventual protective regulations.

Rationale for Decision

The decision to issue the permit was made because the Conservation Plan proposed by IDFG meets the statutory criteria for issuance of an incidental take permit under section 10 of the ESA. In issuing the permit, NMFS determined that IDFG's Conservation Plan provides adequate mitigation measures to avoid, minimize, and/or compensate for the anticipated takes of ESA-listed anadromous fish.

The permit was granted only after NMFS determined that the permit was applied for in good faith, that all permit issuance criteria were met, including the requirement that granting the permit would not jeopardize the continued existence of the species, and that the permit is consistent with the purposes and policies set forth in the Endangered Species Act of 1973, as amended.

Modification to Permits Issued

Mr. Reed Bohne, of GRNMS has applied for a modification to 1030. Modification number 3 names Mr. Bohne as the permit holder, removes three individuals as designated agents and adds three additional individuals. Permit 1030 authorizes the take up to 25 listed loggerhead sea turtles each year in the waters within and adjacent to the Gray's Reef National Marine Sanctuary and on Wassaw, Ossabaw, Sapelo, or Blackbeard Islands on the Georgia coast. The turtles will be taken for examination, tagging, testing, observation, collection of biological information, rehabilitation if necessary, and release. Turtles will be acquired by takes from the wild and also from sources authorized to incidentally capture. Animals would be tagged with flipper (inconel), and PIT (passive inductive transponder) tags, radio, sonic, or satellite telemeters. Biological information will be collected in the form of blood samples. All information gathered would augment an extensive sea turtle database used to study population trends, migrations, habitat, and diving behavior. Modification number 3 to Permit 1030 was issued on June 15, 2000, authorizing take of listed species. Permit 1030 expires March 31, 2002.

Dr. Peter Dutton of the SWFSC applied for a modification to 988. Modification number 1 authorizes Dr. Dutton to use five satellite transmitters in lieu of five previously permitted radio transmitters. Permit 988 authorizes the capture 50 green turtles, five olive ridley turtles, and five loggerhead turtles in San Diego Bay. The turtles will be measured, weighed, have blood samples taken, and have tags and transmitters attached. Some turtles will have lavage stomach sampling performed. Turtles will be recaptured monthly for growth measurements. The purpose of the research is to reassess the status of sea turtles in San Diego Bay. Data collected will be compared to baseline data to determine which turtles are still resident in the Bay, and to determine growth and tag retention rates. Information will be collected on turtle numbers, species, size, sex, tags, health status, stock origin, and behavior and movement patterns. Genetic analysis of blood samples will contribute to an international effort to determine stock structure of Pacific sea turtles. Modification number 1 to Permit 988 was issued on June 15, 2000, authorizing take of listed species. Permit 988 expires April 30, 2001.

New Applications Received

Application 1254: The applicant has requested a five-year scientific research permit to conduct a monitoring study as part of an incidental take permit for the operation of the Roseton and Danskammer Point power plants. The applicant will be collecting larvae, juvenile and adult shortnose sturgeon in various location in the Hudson River between the estuary and river mile 65.

Dated: June 22, 2000.
Craig Johnson,
Acting Chief, Endangered Species Division, Office of Protected Resources, National Marine Fisheries Service.

[FR Doc. 00-16350 Filed 6-27-00; 8:45 am]

BILLING CODE 3510-22-F